DEPARTMENT OF ENERGY

Federal Energy Regulatory Commission

[Docket No. RP04-349-000]

Tennessee Gas Pipeline Company; Notice of Tariff Filing

July 8, 2004.

Take notice that on June 29, 2004, Tennessee Gas Pipeline Company (Tennessee), tendered for filing as part of its FERC Gas Tariff, Fifth Revised Volume No. 1, Fourth Revised Sheet No. 306, with an effective date of August 1, 2004.

Tennessee states that the purpose of this filing is to revise Article II, Section 2 of the General Terms & Conditions (GT&C) of its Tariff to provide production meter operators on Tennessee's system with the right to agree to indemnity provisions if the production meter operators desire, for their own business requirements, to receive gas that does not conform with one or more parts of the gas quality specifications of Article II, Section 1 of the GT&C of Tennessee's Tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1536 Filed 7-13-04; 8:45 am]

BILLING CODE 6717-01-P